ENVIRONMENTAL PROTECTION AGENCY

[EPA-HQ-OPP-2008-0046; FRL-8375-8]

Notice of Receipt; Several Pesticide Petitions Filed for Residues of Pesticide Chemicals in or on Various Commodities

AGENCY: Environmental Protection Agency (EPA).

ACTION: Notice.

SUMMARY: This notice announces the Agency's receipt of several initial filing of pesticide petitions proposing the establishment or modification of regulations for residues of pesticide chemicals in or on various commodities.

DATES: Comments must be received on or before September 12, 2008.

ADDRESSES: Submit your comments, identified by docket identification (ID) number and the pesticide petition number (PP) of interest as identified in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the docket ID number and the pesticide petition number of interest as identified in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in http://www.regulations.gov. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest, Office of Pesticide Programs, Registration Division (7505P), Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Docket ID Numbers

When submitting comments, please use the docket ID number and the pesticide petition number of interest, as shown in the table.

PP Number | Docket ID Number
PP 8E7347 | EPA-HQ-OPP-2008-0554
PP 8E7365 | EPA-HQ-OPP-2008-0556
PP 5F4469 | EPA-HQ-OPP-2008-0276
PP 8F7369 | EPA-HQ-OPP-2008-0526
PP 8F7383 | EPA-HQ-OPP-2008-0557
PP 8E7347 | EPA-HQ-OPP-2008-0554

III. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this document contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of the petition that is the subject of this notice, which was prepared by the petitioner as required by 40 CFR 180.7(b)(1), is included in the docket for this rulemaking at http://www.regulations.gov. As specified in FFDCA section 408(d)(3), (21 U.S.C. 346a(d)(3)), EPA is publishing notice of the petition so that the public has an opportunity to comment on this request for the establishment or modification of regulations for residues of pesticides in or on food commodities. Further information on the petition may be obtained through the petition summary referenced above.

New Tolerances

1. PP 8E7347. Interregional Research Project Number 4 (IR-4), IR-4 Project Headquarters, Rutgers, The State University of New Jersey, 500 College Rd. East, Suite 201 W, Princeton, NJ 08450, proposes to establish a tolerance for residues of the insecticide etoxazole, 2-(2,6-difluorophenyl)-4-[4-(1,1-dimethylethyl)-2-ethoxyphenyl]-4,5-dihydrooxazole, in or on food commodities fruit, stone, group 12, except plum at 1.0 parts per million (ppm); plum at 0.12 ppm; plum, prune, dried at 0.4 ppm; cucumber at 0.02 ppm; tomato at 0.25 ppm; spearmint, tops at 10 ppm; peppermint, tops at 10 ppm; peppermint, oil at 20 ppm; and spearmint, oil at 20 ppm. Practical analytical methods for detecting and measuring levels of etoxazole have been developed and validated in/on all appropriate agricultural commodities and respective processing fractions. The level of quantitation (LOQ) of etoxazole in the methods is 0.02 ppm which will allow monitoring of food with residues at the levels proposed for the tolerances. Contact: Sidney Jackson, (703) 305-7610, jackson.sidney@epa.gov.

2. PP 8E7365. IR-4, IR-4 Project Headquarters, Rutgers, The State University of New Jersey, 500 College Rd. East, Suite 201 W, Princeton, NJ 08450, proposes to establish a tolerance for residues of the insecticide fenpyroximate, (E)-1,1-dimethylethyl 4-[[[[(1,3-dimethyl-5-phenoxy-1H-pyrazol-4-yl) methylene] amino]oxy]methyl] benzoate and its Z-isomer, (Z)-1,1-dimethylethyl 4-[[[[(1,3-dimethyl-5-phenoxy-1H-pyrazol-4-yl)methylene] amino]oxy] methyl]benzoate] in or on food commodities vegetables, fruiting, group 08 at 0.20 ppm; okra at 0.20 ppm; melon subgroup 09A at 0.03 ppm; and cucumber at 0.05 ppm. Based upon the metabolism of fenpyroximate in plants and the toxicology of the parent and metabolites, quantification of the parent, fenpyroximate and the z-isomer, combined as fenpyroximate is sufficient to determine toxic residues in plants. As a result, an enforcement method has been developed which involves extraction of fenpyroximate from crops with acetone, filtration, partitioning and cleanup, and analysis by gas chromatography using a nitrogen/phosphorous detector. The method has undergone independent laboratory validation as required by PR Notice 88-5 and 96-1. This summary has been prepared by Nichino America, Inc., Wilmington, DE 19808, the registrant. Contact: Sidney Jackson, (703) 305-7610, jackson.sidney@epa.gov.

3. PP 5F4469. Syngenta Crop Protection, Inc., PO Box 18300, Greensboro, NC 27419, proposes to establish a tolerance for residues of the herbicide prosulfuron, 1-(4-methoxy-6-methyl-triazin-2-yl)-3-[2-(3,3,3-trifluoropropyl)-phenylsulfonyl]-urea] in or on food commodities field and popcorn grain, fodder and forage at 0.01 ppm; cereal grains group (except rice and wild rice), fodder at 0.01 ppm; forage at 0.10 ppm; grain at 0.01 ppm; hay at 0.20 ppm; straw at 0.02 ppm; cattle, goat, hog, horse, sheep fat, kidney, liver, meat, and meat byproducts at 0.05 ppm; and milk at 0.01 ppm. Adequate analytical methods exist for the detection and measurement of residue levels of prosulfuron in or on raw and processed commodities of cereal grains, and for meat, milk and eggs. The LOQ is 0.01 ppm for crop commodities, processed fractions and milk, and 0.05 ppm for meat and eggs. The method is based on commodity-specific cleanup procedures followed by determination by high performance liquid chromatography (HPLC) with ultraviolet (UV) detection. Contact: Hope Johnson, (703) 305-5410, johnson.hope@epa.gov.

4. PP 8F7369. Dow AgroSciences, LLC., 9330 Zionsville Rd., Indianapolis, IN 46268, proposes to establish a tolerance for residues of the herbicide penoxsulam in or on food commodities nut, tree, group 14 at 0.01 ppm; grape at 0.01 ppm; almond, hulls at 0.01 ppm; and pistachio at 0.01 ppm. In the Magnitude of Residue (MOR) studies conducted in grapes, almonds and pecans to support tolerances proposed in this petition, residues of penoxsulam were determined using the analytical method GRM 04.09. The final solution was analyzed by liquid chromatography with positive-ion electrospray tandem mass spectrometry (LC/MS/MS). The limit of detection (LOD) and LOQ are 0.003 µg/g and 0.010 µg/g, respectively. Contact: Philip Errico, (703) 305-6663, errico.philip@epa.gov.

5. PP 8F7383. Gowan Company, PO Box 5569, Yuma, AZ, 85366-5569, proposes to establish a tolerance for residues of the insecticide phosmet in or on food commodities almond and pistachio nutmeats at 0.3 ppm; almond hulls at 50 ppm. Appropriate data collection and enforcement analytical methods are available to detect phosmet and its oxygen analog in plant and animal commodities. The Pesticide Analytical Manual (PAM) lists a gas chromatography method with flame photometric detection (GC/FPD) and a GC method with flame ionization as Methods II and III, respectively, for tolerance enforcement. Contact: Ann Sibold, (703) 305-6502, sibold.ann@epa.gov.

Amendment to Existing Tolerance

1. PP 8E7347. IR-4, IR-4 Project Headquarters, Rutgers, The State University of New Jersey, 500 College Rd. East, Suite 201 W, Princeton, NJ 08450, proposes to amend the tolerance in 40 CFR 180.593 for residues of the insecticide etoxazole, 2-(2,6-difluorophenyl)-4-[4-(1,1-dimethylethyl)-2-ethoxyphenyl]-4,5-dihydrooxazole, in or on the food commodity cherry at 1.0 ppm after the tolerance for fruit, stone, group 12, except plum at 1.0 ppm is established for residues of etoxazole. Contact: Sidney Jackson, (703) 305-7610, jackson.sidney@epa.gov.

List of Subjects

Environmental protection, Agricultural commodities, Feed additives, Food additives, Pesticides and pests, Reporting and recordkeeping requirements.

Dated: August 4, 2008.
Donald R. Stubbs,
Acting Director, Registration Division, Office of Pesticide Programs.

[FR Doc. E8-18609 Filed 8-12-08; 8:45 am]

BILLING CODE 6560-50-S